DEPARTMENT OF THE INTERIOR

National Park Service

Notice of Availability of the Final General Management Plan and Final Environmental Impact Statement for the First Ladies National Historic Site, Ohio

AGENCY: National Park Service, Interior.

SUMMARY: Pursuant to section 102(2)(C) of the National Environmental Policy Act of 1969, the National Park Service (NPS) announces the availability of the Final General Management Plan and Final Environmental Impact Statement (GMP/EIS) for the First Ladies National Historic Site.

DATES: The Final GMP/EIS will be available for public review for 30 days following the publishing of a notice of availability in the Federal Register by the Environmental Protection Agency.

ADDRESSES: Copies of the Final GMP/EIS are available by request by writing c/o Site Manager, 8095 Mentor Avenue, Mentor, Ohio 44060, by telephoning 440-974-2993 or by e-mail carol_j_spears@nps.gov. The document is also available to be picked up in person at 331 Market Avenue South, Canton, Ohio 44702. The document is also available on the Internet at: http://parkplanning.nps.gov/.

FOR FURTHER INFORMATION CONTACT: Ms. Carol J. Spears, Site Manager, 8095 Mentor Avenue, Mentor, Ohio 44060, telephone 440-974-2993.

SUPPLEMENTARY INFORMATION: The NPS prepared a Draft GMP/EIS for the First Ladies National Historic Site and made it available for public review for 60 days (September-November 2005), during which time the NPS distributed over 100 copies of the draft. The draft was available at the First Ladies National Historic Site, on the Internet, and at area libraries. A total of four written comments were received, and five participants attended two open houses. The consensus from the public comment period is that the correct path to pursue for future management of the First Ladies National Historic Site is the preferred alternative, Alternative B. Comments from individuals and public agencies did not require the addition of other alternatives, significantly alter existing alternatives, or make changes to the impact analysis of the effects of any alternative.

Dated: February 16, 2006.
Ernest Quintana,
Regional Director, Midwest Region.

[FR Doc. E6-4546 Filed 3-28-06; 8:45 am]

BILLING CODE 4312-86-P